DEPARTMENT OF COMMERCE

National Oceanic and Atmospheric Administration

Proposed Information Collection; Comment Request; Permitting, Vessel Identification, and Reporting Requirements for Deepwater Shrimp Fisheries in the Western Pacific Region

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 17, 2012.

ADDRESSES: Direct all written comments to Diana Hynek, Departmental Paperwork Clearance Officer, Department of Commerce, Room 6616, 14th and Constitution Avenue NW, Washington, DC 20230 (or via the Internet at dHynek@doc.gov).

FOR FURTHER INFORMATION CONTACT: Requests for additional information or copies of the information collection instrument and instructions should be directed to Walter Ikehara, (808) 944-2275 or Walter.Ikehara@noaa.gov.

SUPPLEMENTARY INFORMATION:

I. Abstract

This request is for extension of a currently approved information collection.

Under the Code of Federal Regulations in Title 50, Part 665, all vessel owners who fish for deepwater shrimp (Heterocarpus spp.), or land these species in ports, in the western Pacific region must obtain a Federal permit from the National Marine Fisheries Service (NMFS). They must also mark their vessels for identification. Vessel operators must submit NMFS logbook reports of their fishing activity to NMFS within 72 hours of the end of each fishing trip.

The information collected is used to identify participants in the fishery, document fishing activities and landings, determine the conditions of the stocks, assess the effectiveness of management measures, evaluate the benefits and costs of changes in management measures, and monitor and respond to accidental takes of protected species, including seabirds, turtles, and marine mammals.

Vessel owners must identify their vessels to assist in aerial and at-sea enforcement of fishing regulations.

The currently approved permit application, vessel identification, and logbook reporting requirements are being renewed without change.

II. Method of Collection

Respondents submit paper forms for permit applications and logbook reports to NMFS. Permits are valid for one calendar year and may be renewed annually. Logbook forms provided by NMFS are completed by the vessel operator and submitted to NMFS no later than 72 hours after the end of the trip. Methods of submittal at this time include mail, email and facsimile transmission of paper forms. In the future, email of electronic forms or online access to web-based forms will be available.

III. Data

OMB Control Number: 0648-0586.

Form Number: None.

Type of Review: Regular submission (extension of a currently approved collection).

Affected Public: Individuals or households, businesses or other for-profit organizations, and not-for-profit institutions.

Estimated Number of Respondents: 10.

Estimated Time per Response: Permit application, 30 minutes; logbook report, 10 minutes per vessel per fishing day; vessel identification, 45 minutes.

Estimated Total Annual Burden Hours: 180.

Estimated Total Annual Cost to Public: $930 in application fees, identification, mailing, faxing, and copying costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 13, 2011.
Gwellnar Banks,
Management Analyst, Office of the Chief Information Officer.

[FR Doc. 2011-32366 Filed 12-16-11; 8:45 am]

BILLING CODE 3510-22-P